DEPARTMENT OF EDUCATION

Impact Evaluation of Data-Driven Instruction Professional Development for Teachers; Docket ID Number; Correction

AGENCY: Department of Education.

ACTION: Correction Notice.

SUMMARY: On June 15, 2015 the U.S. Department of Education published a 60-day comment period notice in the Federal Register Page 34150, Column 3; Page 34151, Column 1 and 2 seeking public comment for an information collection entitled, “Impact Evaluation of Data-Driven Instruction Professional Development for Teachers”. ED is requesting a correction to the Docket ID Number. The correct Docket ID Number is ED-2015-ICCD-0078.

The Acting Director, Information Collection Clearance Division, Privacy, Information and Records Management Services, Office of Management, hereby issues a correction notice as required by the Paperwork Reduction Act of 1995.

Dated: June 17, 2015.
Kate Mullan,
Acting Director, Information Collection Clearance Division, Privacy, Information and Records Management Services, Office of Management.

[FR Doc. 2015-15228 Filed 6-19-15; 8:45 am]

BILLING CODE P